NUCLEAR REGULATORY COMMISSION

10 CFR Part 70

Office of Nuclear Material Safety and Safeguards; Notice of Issuance of Final Backfit Guidance

AGENCY: Nuclear Regulatory Commission.

ACTION: Final issuance; effective date announcement.

SUMMARY: The U. S. Nuclear Regulatory Commission's (NRC) Office of Nuclear Material Safety and Safeguards (NMSS) has issued the final document, NMSS 10 CFR Part 70 Backfit Guidance.

The final document provides guidance for implementing the backfit provisions in 10 CFR 70.76. As a result of this final issuance and as discussed in 10 CFR 70.76, backfit provisions are now effective for all part 70 requirements, except for subpart H, and following NRC approval of a licensee's Independent Safety Analysis (ISA) Summary, the requirements of 10 CFR 70.76 become effective for subpart H requirements.

DATES: The effective date of 10 CFR 70.76 is May 18, 2004.

ADDRESSES: A copy of the final document is available for public inspection and copying from the Publicly Available Records (PARS) component of NRC's document system (ADAMS). ADAMS is accessible from the NRC Web site at www.nrc.gov/reading-rm/adams.html. The ADAMS Accession Number is ML040980122. Documents can also be viewed electronically on the public computers located at the NRC's Public Document Room (PDR), O-1F21, One White Flint North, 11555 Rockville Pike, Rockville, MD 20852. The PDR reproduction contractor will copy documents for a fee. Persons who do not have access to ADAMS, should contact the NRC PDR Reference staff by telephone at 1 (800) 397-4209, or (301) 415-4737, or by e-mail to pdr@nrc.gov.

FOR FURTHER INFORMATION CONTACT: William Gleaves, Office of Nuclear Material Safety and Safeguards, Division of Fuel Cycle Safety and Safeguards, Mail Stop T-8 A33, U.S. Nuclear Regulatory Commission, Washington, DC 20555-0001, Telephone (301) 415-5848, or by e-mail at bcg@nrc.gov.

Dated at Rockville, Maryland, this 30th day of April, 2004.
For the Nuclear Regulatory Commission.
Joseph J. Holonich,
Deputy Director, Division of Fuel Cycle Safety and Safeguards, Office of Nuclear Material Safety and Safeguards.

[FR Doc. 04-11183 Filed 5-17-04; 8:45 am]

BILLING CODE 7590-01-P